DEPARTMENT OF HOMELAND SECURITY

Coast Guard

[USCG-2007-0040]

Application for the Cruise Ship CORAL PRINCESS, Review for Inclusion in the Shipboard Technology Evaluation Program; Draft Environmental Assessment

AGENCY: Coast Guard, DHS.

ACTION: Notice of availability and request for public comments.

SUMMARY: The Coast Guard announces the availability of the Draft Environmental Assessment (DEA) for the cruise ship CORAL PRINCESS. The DEA describes the CORAL PRINCESS' application for the Shipboard Technology Evaluation Program (STEP) Ballast Water Treatment System demonstration initiative. The DEA for the CORAL PRINCESS also addresses effects on the human and natural environments from installing, testing, and using the Hyde Marine, Inc. ballast water treatment system as the vessel operates in U.S. waters.

DATES: Comments and related materials must reach the Docket Management Facility on or before June 3, 2008.

ADDRESSES: You may submit comments identified by Coast Guard docket number USCG-2007-0040 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue SE., Washington, DC 20590.

(3) Hand Delivery: Room W12-140 on the Ground Floor of the West Building, 1200 New Jersey Avenue SE., Washington, DC 20590, between 9 a.m. and 5 p.m., Monday through Friday, except Federal holidays. The telephone number is 202-366-9329.

(4) Fax: 202-493-2251.

FOR FURTHER INFORMATION CONTACT: If you have questions on the Draft Environmental Assessment (DEA) or would like a copy of the DEA, please contact LCDR Brian Moore, telephone 202-372-1434 or e-mail: brian.e.moore@uscg.mil. If you have questions on viewing or submitting material to the docket, please call Ms. Renee V. Wright, Program Manager, Docket Operations, telephone 202-366-9826.

SUPPLEMENTARY INFORMATION:

Request for Comments

We encourage you to submit comments and related materials about the Draft Environmental Assessment (DEA) described in this notice. Persons submitting comments should include their names and addresses, the docket number for this notice (USCG-2007-0040), and the reasons for each comment. You may submit your comments and materials by mail, hand delivery, fax, or electronic means to the Docket Management Facility listed under ADDRESSES. If you choose to submit them by mail or hand delivery, submit them in an unbound format, no longer than 8½ by 11 inches, and suitable for copying and electronic filing. If you submit them by mail and would like to know if they reached the Facility, please enclose a stamped, self-addressed postcard or envelope. We will consider all comments and materials received during the comment period.

Public Meetings

We do not intend to hold any public meetings in association with this DEA.

Legislative and Regulatory History

In the Nonindigenous Aquatic Nuisance Prevention and Control Act of 1990, as reauthorized, and as amended by the National Invasive Species Act of 1996, Public Law 101-646 and Public Law 104-332, respectively, Congress directed the Coast Guard to prevent introduction of aquatic nonindigenous species (NIS) from ballast water discharged by ships. 16 U.S.C 4711. To achieve this objective, the Coast Guard wrote new regulations in 33 CFR 151, subparts C and D. 58 FR 18330, April 8, 1993, and 69 FR 44952, July 28, 2004, respectively.

On December 8, 2004, the Coast Guard published a notice in the Federal Register announcing its Shipboard Technology Evaluation Program (STEP) for experimental shipboard ballast water treatment systems. 69 FR 1802. The program goal is to promote development of alternatives to ballast water exchange as a means of preventing invasive species entering U.S. waters through ships' ballast water. The comments we received support testing prototype treatment equipment and developing effective and practicable standards for approving this equipment.

In accordance with the National Environmental Policy Act of 1969 (Section 102(2)(c)), as implemented by the Council of Environment Quality regulations in 40 CFR parts 1500-1508 and Coast Guard Commandant Instruction M16475.1D, “National Environmental Policy Act Implementing Procedures and Policy for Considering Environmental Impacts”, the Coast Guard prepared a Programmatic Environmental Assessment (PEA) for the STEP to evaluate the environmental impacts from installing and operating a limited number of prototype ballast water treatment systems. 69 FR 71068. The PEA can be found in docket USCG-2001-9267. That PEA addresses potential effects to the natural and human environments including fish, marine mammals, invertebrates, microorganisms and plankton, submerged and emergent species, threatened and endangered species, and essential fish habitat. It also requires each system to be evaluated for localized affects on the ports and waterways where a vessel involved in the program operates.

We request your comments on the potential impacts of installing, using, and testing the Hyde Marine, Inc. Ballast Water Treatment System on the cruise ship CORAL PRINCESS, as analyzed in the DEA. We also request your comments on sources of data, reference material, or other information not included in the DEA. Your comments will be considered in preparing a Final Environmental Assessment for the CORAL PRINCESS.

Dated: March 25, 2008.
J.G. Lantz,
U.S. Coast Guard, Director of Commercial Regulations and Standards.

[FR Doc. E8-6995 Filed 4-3-08; 8:45 am]

BILLING CODE 4910-15-P